DEPARTMENT OF TRANSPORTATION

Maritime Administration

Marine Transportation System National Advisory Council

ACTION: National Advisory Council public meeting.

SUMMARY: The Maritime Administration announces that the Marine Transportation System National Advisory Council (MTSNAC) will hold a meeting to discuss ongoing action items, MTS Team endeavors, MTS priorities and visions, and other issues. A public comment period is scheduled for 11:00 AM to 12:00 PM on Friday, May 4, 2001. To provide time for as many people to speak as possible, speaking time for each individual will be limited to three minutes. Members of the public who would like to speak are asked to contact Raymond Barberesi by April 30, 2001. Commenters will be placed on the agenda in the order in which notifications are received. If time allows, additional comments will be permitted. Copies of oral comments must be submitted in writing at the meeting. Additional written comments are welcome and must be filed by May 11, 2001. Send comments to the attention of Mr. Raymond Barberesi, Director, Office of Ports and Domestic Shipping, U.S. Maritime Administration, 400 7th Street, SW, Room 7201, Washington, DC 20590.

DATES: The meeting will be held on Thursday, May 3, 2001, from 1 p.m. to 5 p.m. and Friday, May 4, 2001, from 9 a.m. to 3 p.m.

ADDRESSES: The meeting will be held at the U.S. Merchant Marine Academy, Kings Point, NY 10024.

FOR FURTHER INFORMATION CONTACT: Raymond Barberesi, (202) 366-4357; Maritime Administration, MAR 830, Room 7201, 400 Seventh St., SW, Washington, DC 20590; Raymond.Barberesi@marad.dot.gov.

(Authority: 5 U.S.C. App 2, Sec. 9(a)(2); 41 CFR 101-6. 1005; DOT Order 1120.3B)

Dated: April 12, 2001.
Joel C. Richard,
Secretary, Maritime Administration.

[FR Doc. 01-9537 Filed 4-17-01; 8:45 am]

BILLING CODE 4910-81-P